DEPARTMENT OF TRANSPORTATION

Federal Aviation Administration

Notice of availability of Final Environmental Impact Statement for the Chicago Terminal Airspace Project

AGENCY: Federal Aviation Administration, DOT.

ACTION: Notice of Availability of Final Environmental Impact Statement.

SUMMARY: The Federal Aviation Administration (FAA), Great Lakes Region, is issuing this notice to advise the public of the availability of the Final Environmental Impact Statement (FEIS) for the Chicago Terminal Airspace Project (CTAP).

FOR FURTHER INFORMATION CONTACT: Ms. Annette Davis, Federal Aviation Administration, Great Lakes Region, Air Traffic Division, 2300 East Devon Avenue, Des Plaines, Illinois, 60018, (847)-294-8091.

SUPPLEMENTARY INFORMATION: The proposed CTAP changes could affect flights to and from airports within the Chicago region. The project is not associated with any airport development projects and does not require construction of any physical facilities. The changes proposed by CTAP are designed to improve traffic flows and reduce airborne and ground delays. They would enhance safety and efficiency by maximizing controller flexibility and simplifying operations for pilots. CTAP has the potential to enhance air quality by reducing en route mileage. As disclosed in the FEIS, CTAP would not result in significant adverse impacts to any resource category.

Council on Environmental Quality Regulations for Implementing the Procedural Provisions of the National Environmental Policy Act set forth that no decision on a proposed action shall be made by a Federal agency until 30 days after the Environmental Protection Agency publishes, in the Federal Register, a notice that the FEIS has been filed with them.

The FAA will assess and consider any written correspondence it receives on the CTAP FEIS until close of business, Tuesday, October 9, 2001. Late received correspondence will be considered to the extent feasible. This document will be available during normal business hours at the following locations.:

State of Illinois

Bensenville Public Library 200 S. Church Rd. Bensenville, IL 60106

Des Plaines Public Library 841 Graceland Ave. Des Plaines, IL 60016

Eisenhower Public Library 4652 N. Olcott Ave. Harwood Heights, IL 60656

Elk Grove Village Public Library, 1001 Wellington Ave., Elk Grove Village, IL 60007

Elmhurst Public Library, 211 Prospect Ave., Elmhurst, IL 60126

Franklin Park Public Library, 10311 Grand Ave., Franklin Park, IL 60131

Garfield Ridge Branch Library, 6348 South Archer Ave., Chicago, IL 60638

Harold Washington Library, 400 South State St., 5th Floor, Chicago, IL 60605

Mount Prospect Public Library, 10 S. Emerson St., Mount Prospect, IL 60056

Northlake Public Library, 231 N. Wolf Rd., Northlake, IL 60164

Oriole Park Branch Library, 5201 N. Oketo Ave., Chicago, IL 60656

Park Ridge Public Library, 20 S. Prospect Ave., Park Ridge, IL 60068

Schiller Park Public Library, 4200 Old River Rd., Schiller Park, IL 60176

State of Indiana

Lake County Public Library, 1919 W. 81st Ave., Merrillville, IN 46410-5382

State of Wisconsin

Milwaukee Central Public Library, 814 W. Wisconsin Ave., Milwaukee, WI 53233

Oak Creek Public Library, 8620 S. Howell Ave., Oak Creek, WI 53154

Information is also available on the Internet at the web site address http://www.faa.gov/ctap.html.

Issued in Des Plaines, Illinois, on August 23, 2001.
Denis C. Burke,
Manager, Airspace Branch, Air Traffic Division, Great Lakes Region.

[FR Doc. 01-22051 Filed 8-30-01; 8:45 am]

BILLING CODE 4910-13-M